DEPARTMENT OF ENERGY

Federal Energy Regulatory Commission

Combined Notice of Filings #1

Take notice that the Commission received the following electric corporate filings:

Docket Numbers: EC24-58-000.

Applicants: Global Infrastructure Management, LLC, BlackRock, Inc.

Description: Supplement to 03/12/2024, Application for Authorization Under Section 203 of the Federal Power Act of Global Infrastructure Management, LLC.

Filed Date: 5/10/24.

Accession Number: 20240510-5248.

Comment Date: 5 p.m. ET 5/20/24.

Docket Numbers: EC24-78-000.

Applicants: Atrisco Energy Storage LLC.

Description: Application for Authorization Under Section 203 of the Federal Power Act of Atrisco Energy Storage LLC.

Filed Date: 5/10/24.

Accession Number: 20240510-5237.

Comment Date: 5 p.m. ET 5/31/24.

Take notice that the Commission received the following electric rate filings:

Docket Numbers: ER22-1640-003.

Applicants: Midcontinent Independent System Operator, Inc.

Description: Compliance filing: 2024-05-10_Order No. 2222 Compliance Filing to be effective 9/1/2026.

Filed Date: 5/10/24.

Accession Number: 20240510-5179.

Comment Date: 5 p.m. ET 6/10/24.

Docket Numbers: ER23-2977-002.

Applicants: Midcontinent Independent System Operator, Inc.

Description: Tariff Amendment: 2024-05-13_Deficiency Response to Reliability Based Demand Curve to be effective 6/3/2024.

Filed Date: 5/13/24.

Accession Number: 20240513-5246.

Comment Date: 5 p.m. ET 6/3/24.

Docket Numbers: ER24-374-002.

Applicants: PJM Interconnection, L.L.C.

Description: Compliance filing: Compliance Filing to Clarify FTR Bilateral Reform in ER24-374 to be effective 6/30/2024.

Filed Date: 5/13/24.

Accession Number: 20240513-5213.

Comment Date: 5 p.m. ET 6/3/24.

Docket Numbers: ER24-683-001.

Applicants: Duke Energy Carolinas, LLC, Duke Energy Florida, LLC, Duke Energy Progress, LLC.

Description: Compliance filing: Duke Energy Progress, LLC submits tariff filing per 35: Revisions to Attachment M to Joint OATT (SGIP/SGIA) (Order No. 2023-A) to be effective 4/1/2024.

Filed Date: 5/13/24.

Accession Number: 20240513-5129.

Comment Date: 5 p.m. ET 6/3/24.

Docket Numbers: ER24-1248-001.

Applicants: Northern Indiana Public Service Company LLC.

Description: Tariff Amendment: NIPSCO NEET Construction Agreement Deficiency Response to be effective 6/13/2024.

Filed Date: 5/13/24.

Accession Number: 20240513-5189.

Comment Date: 5 p.m. ET 6/3/24.

Docket Numbers: ER24-1674-001.

Applicants: Orange and Rockland Utilities, Inc.

Description: Tariff Amendment: Amendment of O&R 4-1-2024 Undergrounding Filing to be effective 4/1/2024.

Filed Date: 5/13/24.

Accession Number: 20240513-5223.

Comment Date: 5 p.m. ET 6/3/24.

Docket Numbers: ER24-1997-000.

Applicants: Talen Energy Marketing, LLC.

Description: Talen Energy Marketing, LLC submits a One-Time Limited Waiver Request of procedural deadlines in Section 6.6(g) of Attachment DD and Section II.C.2 of Attachment M-Appendix to PJM Interconnection, L.L.C. OATT.

Filed Date: 5/9/24.

Accession Number: 20240509-5233.

Comment Date: 5 p.m. ET 5/30/24.

Docket Numbers: ER24-1998-000.

Applicants: FirstEnergy Service Company, PJM Interconnection, L.L.C.

Description: § 205(d) Rate Filing: FirstEnergy Service Company submits tariff filing per 35.13(a)(2)(iii: FirstEnergy Request for Order Authorizing Abandoned Plant Incentive to be effective 7/15/2024.

Filed Date: 5/13/24.

Accession Number: 20240513-5053.

Comment Date: 5 p.m. ET 6/3/24.

Docket Numbers: ER24-1999-000.

Applicants: All Choice Energy NE LLC.

Description: Baseline eTariff Filing: Market-Based Rate Tariff Application to be effective 5/14/2024.

Filed Date: 5/13/24.

Accession Number: 20240513-5121.

Comment Date: 5 p.m. ET 6/3/24.

Docket Numbers: ER24-2000-000.

Applicants: Alabama Power Company, Georgia Power Company, Mississippi Power Company.

Description: § 205(d) Rate Filing: Alabama Power Company submits tariff filing per 35.13(a)(2)(iii: RWE Solar Development (Dogwood BESS) LGIA Filing to be effective 5/3/2024.

Filed Date: 5/13/24.

Accession Number: 20240513-5123.

Comment Date: 5 p.m. ET 6/3/24.

Docket Numbers: ER24-2001-000

Applicants: Horizon West Transmission, LLC.

Description: § 205(d) Rate Filing: Request for Approval of Transmission Rate Incentives to be effective 7/13/2024.

Filed Date: 5/13/24.

Accession Number: 20240513-5258.

Comment Date: 5 p.m. ET 6/3/24.

Take notice that the Commission received the following electric securities filings:

Docket Numbers: ES24-37-000.

Applicants: Trans Bay Cable LLC.

Description: Application Under Section 204 of the Federal Power Act for Authorization to Issue Securities of Trans Bay Cable LLC.

Filed Date: 5/10/24.

Accession Number: 20240510-5242.

Comment Date: 5 p.m. ET 5/31/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: May 13, 2024.
Debbie-Anne A. Reese,
Acting Secretary.

[FR Doc. 2024-10881 Filed 5-16-24; 8:45 am]

BILLING CODE 6717-01-P